Title 3—

The President

Proclamation 10369 of April 15, 2022

National Park Week, 2022

By the President of the United States of America

A Proclamation

From the Great Smoky Mountains in North Carolina and Tennessee, to the wonderous sights of the Grand Canyon in Arizona, to the vast hidden treasures of the Channel Islands in California, our cherished national parks are home to so many of those most beautiful places on Earth, places that astonish us, inspire us, and fill us with a sense of pride and belonging. During National Park Week, we celebrate the natural splendor of our national parks and show our appreciation for the Department of the Interior and National Park Service's dedicated stewardship of them.

Last month, our Nation celebrated the 150th anniversary of Yellowstone National Park—the world's first national park and a place that holds many treasured memories for me. The desire to protect and share the indescribable beauty, bountiful wildlife, and natural resources of Yellowstone laid the foundation for what would become America's national parks system.

To protect our Nation's outdoors and all of its marvels, I was proud to launch the “America the Beautiful” initiative—the first-ever voluntary national conservation effort with a goal to conserve 30 percent of our country's lands and waters by 2030. I have called for a whole-of-government approach that supports locally-led efforts to conserve and restore lands and waters across the country. In doing so, we will address the interconnected climate and biodiversity crises that our planet faces and also allow more people in more communities to have access to nature and the physical and spiritual nourishment it provides.

Historic investments through the Bipartisan Infrastructure Law and the Great American Outdoors Act are also allowing us to revitalize our national parks and public lands by modernizing facilities and addressing the extensive deferred maintenance and repair backlog. These laws also allow us to make progress on pollution clean-up, environmental sustainability, climate resiliency, and green energy initiatives. Through these important upgrades and restoration efforts, we will make it possible for more people to enjoy our national parks, today and for generations to come.

My Administration is working to fully engage with Tribal Nations by acknowledging their history and learning from their ancestral and modern connections to our national parks. By recognizing Native American Tribes' connection to this land since time immemorial and finding opportunities to collaborate on managing our shared lands and waters, we can preserve Native American Tribes' rich histories while safeguarding America's national parks for future generations. The National Park Service is also working with stakeholders to connect more Americans to our national parks, incorporating the experiences, backgrounds, and history of every community that these sites represent.

As part of my Administration's efforts to advance equity, diversity, and inclusion, we have made a priority of creating equitable access to our shared natural resources. Through programs funded by the Land and Water Conservation Fund, such as the Outdoor Recreation Legacy Partnership, we are working with communities to develop and preserve green space, reinvigorating existing national parks, and expanding opportunities to forge connections between people and the outdoors, particularly in economically underserved areas. By tackling the intersecting challenges of environmental and racial justice, we will create a future where all Americans can enjoy everything that our national parks have to offer.

As we have learned throughout the COVID-19 pandemic, providing easy and equitable access to the great outdoors is vital for our physical, mental, and social health. National parks, trails, and other close-to-home public spaces create opportunities for us to get outdoors, enjoy fresh air, and socialize or find sanctuary.

Our national parks serve as a source of recreation, inspiration, and spirit. They are, indeed, America's best idea. I encourage all Americans to take some time during National Park Week to connect with our national parks.

NOW, THEREFORE, I, JOSEPH R. BIDEN JR., President of the United States of America, by virtue of the authority vested in me by the Constitution and the laws of the United States, do hereby proclaim April 16 through April 24, 2022, as National Park Week. I encourage all Americans to find their park, recreate responsibly, and enjoy the benefits that come from spending time in the natural world.

IN WITNESS WHEREOF, I have hereunto set my hand this fifteenth day of April, in the year of our Lord two thousand twenty-two, and of the Independence of the United States of America the two hundred and forty-sixth.

[FR Doc. 2022-08613

Filed 4-19-22; 11:15 am]

Billing code 3395-F2-P